CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed voluntary online registration of Martin Luther King, Jr. Day of Service projects. Copies of the information collection request can be obtained by contacting the office listed below in the ADDRESSES section of this notice.

DATES: Written comments must be submitted to the office listed in the ADDRESSES section by August 21, 2006.

ADDRESSES: You may submit comments, identified by the title of the information collection activity, by any of the following methods:

(1) By mail sent to: Corporation for National and Community Service, Attention: Rhonda Taylor, Project Officer, Room 10303, 1201 New York Avenue, NW., Washington, DC 20525.

(2) By hand delivery or by courier to the Corporation's mailroom, at Room 8102C, at the street address given in paragraph (1) above, between 9 a.m. and 4 p.m. Monday through Friday, except Federal holidays.

(3) By fax to: (202) 606-3460, Attention: Rhonda Taylor, Project Officer, Office of Public Affairs.

(4) Electronically through the Corporation's e-mail address system: rtaylor@cns.gov.

FOR FURTHER INFORMATION CONTACT: Rhonda Taylor, (202) 606-6721, or by e-mail at rtaylor@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

I. Background

The Corporation for National and Community Service administers Martin Luther King, Jr., Service Day as part of the National Service Act (42 U.S.C. 12653(s)). To support the success of this service day, the Corporation for National and Community Service seeks to help promote this program to potential participants through a voluntary online project registration. Martin Luther King, Jr., Service Day projects, whether funded by the Corporation or not, will be able to register their projects, indicate if they need additional volunteers, and list specific project details. The information collected will be used to post the projects on the Corporation's Martin Luther King, Jr., Service Day Web site at http://www.MLKDay.gov and to contact these projects to provide support materials such as toolkits and posters. This information is used to determine that there is a diversity of projects and a sufficient saturation of locations to provide volunteers with opportunities to participate. The collection of this information will help the Corporation focus its resources in the most efficient manner.

Type of Review: New.

Agency: Corporation for National and Community Service.

Title: Martin Luther King, Jr., Day of Service Project Registration.

OMB Number: None.

Agency Number: None.

Affected Public: Organizations operating Martin Luther King, Jr., Day of Service projects.

Total Respondents: 2,000.

Frequency: Annual.

Average Time Per Response: 20 minutes.

Estimated Total Burden Hours: 13,334 hours.

Total Burden Cost (capital/startup): None.

Total Burden Cost (operating/maintenance): None.

Comments submitted in response to this notice will be summarized and/or included in the request for Office of Management and Budget approval of the information collection request; they will also become a matter of public record.

Dated: June 13, 2006.
Rhonda Taylor,
Acting Director, Office of Public Affairs.

[FR Doc. E6-9602 Filed 6-19-06; 8:45 am]

BILLING CODE 6050-$$-P